DEPARTMENT OF TRANSPORTATION

National Highway Traffic Safety Administration

[Docket No. NHTSA-2008-0178]

Amendments to Highway Safety Program Guidelines

AGENCY: National Highway Traffic Safety Administration (NHTSA), Department of Transportation.

ACTION: Revisions to highway safety program guidelines.

SUMMARY: Section 402 of title 23 of the United States Code requires the Secretary of Transportation to promulgate uniform guidelines for State highway safety programs.

This notice revises five of the existing guidelines and adds a new one to reflect program methodologies and approaches that have proven to be successful and are based on sound science and program administration. The revised guidelines are Guideline No. 4 Driver Education; Guideline No. 5 Non-Commercial Driver Licensing; Guideline No. 7 Judicial and Court Services; Guideline No. 10 Traffic Records; and Guideline No. 17 Pupil Transportation. The new guideline is Guideline No. 12 Prosecutor Training.

DATES: The revised guidelines become effective as of the date of publication of this document in the Federal Register.

FOR FURTHER INFORMATION CONTACT: Susan Kirinich, Research and Program Development, NTI-100, National Highway Traffic Safety Administration, 1200 New Jersey Avenue SE., Washington, DC 20590; Telephone: 202-366-1755; Fax: 202-366-7721.

SUPPLEMENTARY INFORMATION:

I. Background

Section 402 of title 23 of the United States Code requires the Secretary of Transportation to promulgate uniform guidelines for State highway safety programs. As the highway safety environment changes, it is necessary for NHTSA to update the guidelines to provide current information on effective program content for States to use in developing and assessing their traffic safety programs. Each of the revised guidelines reflects the best available science and the real-world experience of NHTSA and the States in developing and managing traffic safety program content. Specifically, NHTSA will update the guidelines periodically to address new issues and to emphasize program methodology and approaches that have proven to be effective in these program areas.

The guidelines offer direction to States in formulating their highway safety plans for highway safety efforts that are supported with Section 402 grant funds as well as safety activities funded from other sources. The guidelines provide a framework for developing a balanced highway safety program and serve as a tool with which States can assess the effectiveness of their own programs. NHTSA encourages States to use these guidelines and build upon them to optimize the effectiveness of highway safety programs conducted at the State and local levels.

The revised and new guidelines emphasize areas of nationwide concern and highlight effective countermeasures. As each guideline is updated or created, it will include a date representing the date of its revision or development.

All the highway safety guidelines are available on the NHTSA Web site at http://www.nhtsa.dot.gov/nhtsa/whatsup/tea21/tea21programs/.

In a Notice published in the Federal Register on February 6, 2007 (72 FR 5495), the agency requested comments on the proposed revisions and additions to the guidelines. The guidelines the agency proposed to revise were Guideline No. 4 Driver Education; Guideline No. 5 Non-Commercial Driver Licensing; Guideline No. 7 Judicial and Court Services; Guideline No. 10 Traffic Records; Guideline No. 17 Pupil Transportation; and Guideline No. 21 Roadway Safety. The new guideline is Guideline No. 12 Prosecutor Training. This new Guideline was developed because NHTSA has found educating prosecutors and judges to be an important part of broader efforts to enforce and prosecute traffic safety laws at the State and local levels. Guideline No. 21 Roadway Safety is still under review, and will be addressed in a subsequent publication. Overall, these revisions and additions will provide up-to-date and current guidance to States.

II. Comments

The agency received comments in response to the notice from several organizations or associations: the American Automobile Association (AAA), the Driver Education and Training Administrators (DETA), the Governors Highway Safety Association (GHSA), the Motorcycle Riders Foundation (MRF), the Motorcycle Safety Foundation (MSF), the National Road Safety Foundation (NRSF), the National School Transportation Association (NSTA), the National Association of Students Against Violence Everywhere (SAVE), one State agency (the State of Michigan Department of State Police); and four individuals.

GHSA submitted general comments on the guidelines. The majority of guideline-specific comments received focused on Guidelines No. 4 Driver Education and No. 5 Non-Commercial Driver Licensing. The agency also received two comments related to Guideline No. 17 Pupil Transportation.

A. Comments in General

SAVE generally supported the guidelines, stating that the guidelines further encourage States to protect students. MRF and MSF expressed general support for the proposed additions of motorcycle-specific safety references.

GHSA provided several general comments on the guidelines and commented on NHTSA's characterization that the guidelines offer direction to States in formulating their highway safety plans for efforts supported with Section 402 and other funds. GHSA also asserted that the 402 program is a behavioral program rather than a comprehensive highway safety program. GHSA further commented that a State's annual Highway Safety Plan is not comprehensive and does not replace strategic highway safety plan requirements under the Highway Safety Improvement Program (HSIP) of Section 148 of the Safe, Accountable, Flexible, Efficient Transportation Equity Act: A Legacy for Users (SAFETEA-LU), Public Law 109-59.

The HSIP directs State transportation departments to establish and implement a State strategic highway safety plan in their State. To receive funds for the program, States must have a process in place to analyze highway safety problems and opportunities and to produce strategies to mitigate identified safety problems. The development and implementation of a strategic highway safety plan within each State requires that the transportation department conduct extensive consultation with other organizations within the State and adopt strategic and performance-based goals that are coordinated with other State highway safety programs. In and of itself this does not require changes in existing planning processes, plans, or programs of other State highway safety agencies; and updating and revising the Highway Safety Guidelines is not considered to be in conflict with the HSIP requirements.

Consistent with Congressional direction, NHTSA has issued the guidelines to provide broad guidance to the States on best practices in each program area. Research has shown that the most effective traffic safety countermeasures involve a comprehensive approach that utilizes education, enforcement, engineering and emergency medical services (the “4 E's”). This comprehensive approach is cross-cutting by nature and requires voluntary coordination between various State and local agencies. A State Highway Safety Office (SHSO) cannot require or mandate other State or local agencies to participate in this type of cross-cutting program. That does not mean, however, that the overall program approach should avoid those areas that are the primary responsibility of other governmental agencies. A SHSO should seek to work cooperatively with other State and local agencies to implement the guidelines and in development and implementation of the strategic highway safety plan required under Section 148 of SAFETEA-LU. These guidelines are not meant to supersede that process, but rather to complement it.

Citing specific examples in three proposed guidelines (Guideline No. 4 Driver Education; Guideline No. 5 Non-Commercial Driver Licensing; and Guideline No. 7 Judicial and Court Services), GHSA also asserted that “the guidelines recommend that SHSOs play a role that is beyond their authority or control or that may be unacceptable politically.” NHTSA does not expect a SHSO to go beyond its State mandate to fulfill the guidelines. It can, however, encourage and support the efforts by other State agencies by providing leadership, technical guidance, or training in these areas, where appropriate.

GHSA also voiced concerns regarding the use of the guidelines. Specifically, GHSA asked whether NHTSA would hold a SHSO responsible for implementing the specific countermeasures in the guidelines, connecting them to assessments and management reviews. The purpose of each highway safety guideline is to provide States a description of a successful comprehensive highway safety program addressing a given safety issue. The agency does not intend the guidelines to be limited to activities required by Section 402, but rather to serve as a blueprint for States in developing and administering their own highway safety programs. Given the unique and changing circumstances in each State, certain guidelines and parts of guidelines may have a greater or lesser impact on the safety plans of different States. NHTSA Regional Offices can provide guidance to States to help determine how to use the guidelines most effectively based on individual State needs.

GHSA asked that NHTSA remove from the guidelines references to SHSOs. NHTSA believes that SHSOs have an important leadership role in developing comprehensive traffic safety programs that effectively reduce traffic fatalities. The highway safety guidelines are intended to provide direction to help SHSOs achieve that goal. As such, the guidelines remain unchanged in response to GHSA's comments outlined above.

B. Comments Regarding Guideline No. 4: Driver Education

The agency received comments related to Guideline No. 4 from AAA, DETA, GHSA, MRF, MSF, NRSF, and three individuals. The comments are addressed below under the corresponding Guideline section.

I. Program Management

DETA, AAA, and NRSF provided similar comments regarding the Program Management section of the Driver Education Guideline. In particular, DETA suggested that the Guideline should apply to public and private providers of driver education, that there should be collaboration and coordination with other State agencies in addition to the highway safety office, and the inclusion of a full-time State employee to provide leadership for driver education. The agency agrees with these suggestions and recommends that, to the extent feasible, States devote a full-time position for coordination and oversight of its driver education program.

AAA and NRSF stressed the importance of evaluating driver education programs and suggested the use of their materials to achieve this. The agency agrees that this kind of evaluation is important. However, the Guideline allows States to identify their own tools to help them accomplish this goal. NRSF also suggested periodic assessment of drivers. NHTSA believes that the expense of encouraging States to set up such a system would be prohibitive, particularly in light of unknown benefits. The Guideline remains unchanged in response to this comment.

DETA and NRSF stressed the importance of educating younger children about traffic safety. The agency agrees with this comment, and has added language recommending that States consider driver and highway safety education for younger students.

NRSF recommended that each State provide financial incentives to schools to teach driver education. The agency believes that this is solely within the discretion of each State, and, thus, has not included language to this effect in the Guideline.

II. Legislation, Regulation, and Policy

The MSF suggested that language regarding graduated driver licensing (GDL) restrictions may be more appropriate for Highway Safety Guideline No. 5. The agency retained the language in Guideline No. 4, but also added it to Guideline No. 5.

The MRF asked for a “common sense approach” in adapting GDL guidelines to motorcycles. NHTSA agrees and has added the language to this Guideline where GDL pertains to motorcycles. In response to this Guideline and Guideline No. 5, MRF indicated it would oppose the Guideline separating motorcycle licenses into categories. The agency notes that neither Guideline suggests such separation.

III. Enforcement Program

An individual commented that GDL is not enforced by the police. The agency agrees that challenges exist for GDL enforcement due to the inherent difficulties of identifying drivers covered by GDL restrictions. The agency has included in the existing language the need for visible and well-publicized enforcement of the components of the GDL and zero tolerance laws. AAA recommended evaluation of enforcement efforts. The agency agrees and believes this is part of an overall evaluation program that is currently incorporated within the Guideline. However, the agency added additional language to this section of the Guideline to further emphasize evaluation of enforcement efforts.

IV. Driver Education and Training Program

DETA suggested that NHTSA incorporate a section in this Guideline pertaining to continuing education for driver education instructors. DETA and AAA commented in support of inclusion of standards for driver education instructors, and indicated that this Guideline should apply to both public and commercial schools. DETA and AAA emphasized that coordination among all State agencies, not just the State Highway Safety Office, dealing with driver education is necessary. The agency agrees with these comments and that coordination among State agencies responsible for driver education is beneficial and has incorporated these suggestions into the Guideline.

DETA also suggested the inclusion of parent involvement in GDL. The agency agrees and has incorporated language in the Guideline regarding parental involvement.

AAA and NRSF recommended including a more comprehensive “post novice” or “adult retraining” within the Guideline. While NHTSA agrees that this additional training may be beneficial, States can opt to promote refresher training for older drivers through private sources or through a State agency. The Guideline remains unchanged in response to these comments.

AAA supports coordinating driver education with GDL. The agency agrees but believes the Guideline already addresses this concern.

One individual suggested alternate language for major parts of the elements of a training program. Some of these coincided with DETA recommendations. The Guideline incorporates two specific suggestions pertaining to requiring training in balanced vehicle movements (through steering, braking, accelerating, etc.) and training in new vehicle technology.

DETA recommended that training vehicles include certain safety equipment and that driver education programs include cognitive skills. The agency agrees and has incorporated this information into the Guideline.

DETA proposed the inclusion of “risk prevention” techniques within the Guideline's discussion about advanced driving techniques. Both AAA and an individual suggested that advanced driving techniques lack research on safety benefits and may be inappropriate for the novice driver. The agency agrees with these comments and has deleted the advanced driving techniques section, replacing it with risk prevention, as suggested by DETA. A recommendation by DETA to incorporate attitudinal awareness training and peer pressure education into the Guideline was also accepted.

DETA commented that driver licensing agencies should require and review parent driving logs detailing supervised driving. Because this would involve significant resources at DMVs and uncertain benefits, the Guideline remains unchanged in response to this comment.

The MSF expressed support for this Guideline's inclusion of “sharing the roadway” language but recommended that the Guideline also include scooters. Additionally, the MSF and MRF commented that driver education courses should include a motorcycle awareness component. The agency agrees with both comments and has incorporated these suggestions in the Guideline.

V. Communication Program

An individual commented that drivers from other countries acquire licenses too easily and need a longer education process addressing language and cultural needs. The agency notes that within the Communication Program segment of this Guideline there is existing language to identify audiences at particular risk and provide culturally competent materials. However, the agency does not agree that there should be a requirement for extended driver education for drivers from other countries.

DETA and the NRSF recommended the inclusion of language regarding education for children and youth that will engender knowledge of safe driving practices. The agency agrees and has incorporated introductory language to that effect. NRSF also had specific recommendations, such as the inclusion of a multi-media campaign and expanded discussion of parental responsibilities. The agency does not agree with those recommendations and believes States need flexibility to construct their communication programs.

VI. Program Evaluation and Data

DETA has suggested that NHTSA include language encouraging States to share data to determine whether the driver education guidelines impact traffic safety. The agency agrees with this statement but believes the Guideline already encourages evaluation in this section.

C. Comments Regarding Guideline No. 5: Non-Commercial Driver Licensing

The agency received comments related to Guideline No. 5 from AAA, DETA, MRF, MSF, NRSF and one individual. These comments are addressed below.

I. Program Management

An individual raised issues related to security within driver license agencies. The agency has added language in the program management section of the Guideline in response to this comment.

II. Legislation, Regulation and Policy

As noted above, DETA commented (in response to Guideline No. 4 Driver Education) that the driver license skill and knowledge tests are too brief and inadequate to assess a driver's readiness to drive. The agency is working with motor vehicle administrators to develop a model driver testing program, and anticipates that the model will provide a better assessment of readiness to drive. No changes will be made to the Guideline at this time.

AAA suggested that the recommendations for GDL be expanded with specific passenger age and nighttime driving restrictions. The Guidelines are intended to provide general guidance concerning GDL to allow States maximum flexibility. However, NHTSA provides more extensive GDL recommendations to the States in other publications.

MSF and MRF commented that GDL requirements must recognize differences between motorcycle operators and drivers to the extent that the requirements are prohibitive to motorcycling (e.g., seat belt use, supervised driving). The agency has made changes in Guideline No. 4 (Driver Education) to reflect these comments; however, in the interest of keeping GDL recommendations general in nature to allow States flexibility, this Guideline remains unchanged in response to these comments.

NRSF also provided several comments on this Guideline. It proposed that license renewals include skills assessments and examinations. While the agency does not agree that the Guideline should be overly prescriptive in the renewal process, language has been added that States should re-test, as appropriate.

This commenter additionally recommended that NHTSA research the effectiveness of supervised driving. The agency did not include this recommendation in the Guideline, however research efforts on this issue are underway. NRSF further recommended that supervising drivers should demonstrate driving qualifications and that States should implement procedures to help novice drivers and their guardians to identify and procure the services of qualified driving mentors. NHTSA will await the results of current research before offering guidance in this area. Strong parental involvement in the driver education and licensing of novice drivers is a critical contributor to a safe transition to driving. The agency strongly supports active parental involvement in assisting novice drivers in the transition to driving under a GDL program.

NRSF suggested that States provide online and print manuals detailing the requirements for supervised driving. NRSF further commented that driver education should be “integrated as a phased in process of GDL.” The Guideline remains unchanged in response to these comments. NHTSA is developing materials for use by State licensing agencies and driver education programs on supervised driving. The commenter also recommended including a ban on cell phones and other personal electronic devices as part of GDL restrictions. NHTSA has recently incorporated a restriction on portable electronic communication and entertainment devices for drivers in the permit and intermediate phases in its GDL recommendations to the States. This has been noted in Guidelines 4 and 5. Finally, the agency does not agree with adding language on improvements to driver education prior to extensive evaluation of effectiveness.

III. Driver Fitness

AAA commented that experts suggest driver testing should focus on the functional limitations produced by a medical condition, rather than on the medical condition itself. Accordingly, AAA suggested the agency remove the word “medical” from this section of the Guideline and replace the phrase “mental or physical conditions” with “functional limitations.” Because there remains evidence of increased risk among drivers with some medical conditions, NHTSA does not agree with elimination of the “medical” modifier to “evaluation.” Because of this, the Guideline retains the language as proposed, but the agency will keep this recommendation in mind as further research becomes available.

NRSF commented that medical evaluation systems should include: (1) Guidelines for mental and physical performance; (2) medical standards for physician reference; (3) methodologies for determining patient health risks; and (4) methodologies for communicating health and fitness standards to patients and to DMVs. Specifically, NRSF suggested that training for medical professionals who work with the driving population include these components.

NRSF also commented that State guidelines should include periodic driver skill retesting to maintain operational and medical fitness for drivers of all ages. The Guideline remains unchanged in response to these comments. There is insufficient evidence at this time to suggest that periodic driver skill retesting, i.e., behind-the-wheel testing, is an effective strategy for identifying at-risk drivers. Currently, the best available evidence suggests that in-person renewal is the most effective approach to identifying at-risk drivers of all ages.

The Physician's Guide to Assessing and Counseling Older Drivers, developed by NHTSA and the American Medical Association, identifies red flags and interventions. Beyond that, assessment strategies are limited by the predictive value that a given screening tool might have. The Physician's Guide includes information on making referrals to the DMV and on counseling patients. It also includes information on obtaining Continuing Medical Education credits for use of the guide. The agency believes that NRSF's comments are addressed in its ongoing work. While on its face, periodic retesting seems reasonable, currently there is no evidence to suggest that such a strategy would have any safety benefits. The agency is conducting research on the safety benefits of different State licensing practices. Until that research is completed, any changes to the Guideline on this issue would be premature.

In response to the proposed Guideline's provision that each State should have “a medical advisory board or equivalent allied health professional unit composed of qualified personnel to advise the driver license agency on medical criteria and vision guidelines,” an individual recommended adding a reference to prescription, over-the-counter, and illegal alcohol and drug use. While there is value in considering alcohol and drug use for licensing purposes, the implementation of this recommendation would not be practical or feasible given the broad range of medications, the durations that people use them, and the different reactions individuals have to medications. Including alcohol use in the medical section's purview seems worthwhile, given recognition that addiction to it is a treatable disease. Language, therefore, on this issue is included.

V. Driver Records, Data, and Evaluation

NRSF advocated for driver improvement action prior to when a driver demonstrates problematic behavior (i.e., drivers involved with a high number of traffic crashes or violations). The agency has made no changes to the Guideline in response to this comment, as the agency believes that States should have the flexibility to reassess drivers as States deem appropriate and institute follow-up measures accordingly. NHTSA is undertaking a project to determine best approaches to identifying and treating problem drivers.

MSF suggested cross-referencing rider education training data with operator licensing records, particularly in States conditioning licensing upon safety training. The agency agrees with this recommendation, and has recommended that motorcycle rider licensing and registration records be linked in State licensing records.

D. Comments Regarding Guideline No. 7 Judicial and Court Services & Guideline No. 12 Prosecutor Training

GHSA expressed concern regarding the development of a resource management plan that would include specific components concerning the allocation of funding, personnel, and facilities. GHSA also stated that this is not a feasible or appropriate role for a SHSO. GHSA said that it would be more appropriate for a national organization of prosecutors or judges to develop a model resource management tool for its members.

These Guidelines were developed to help the SHSOs effectively incorporate the criminal justice system into their traffic safety programs. The intent of this section is to ensure that the impact of SHSO-generated traffic safety law enforcement activities on the entire criminal justice system is taken into account when developing State plans.

The judicial and prosecutor Guidelines are designed to help the SHSOs develop a balanced overall approach that fully engages all elements of the criminal justice system. They are intended to provide a basic understanding of the criminal justice system, as it relates to traffic safety, and point out how decisions on funding various law enforcement activities can impact the overall effectiveness of the enforcement, prosecutorial and judicial outreach efforts. To help clarify that, the Resource Management section of these two Guidelines now indicates that the SHSO should work with the relevant State enforcement and adjudication offices to ensure that adequate resources are allocated throughout the criminal justice system for SHSO-generated law enforcement activities, while acknowledging that this is not meant to ask the SHSO to develop a resource plan for another State agency.

E. Comments Regarding Guideline No. 10 Traffic Records

The agency addresses below comments received from MRF, MSF, and AAA regarding Guideline No. 10 Traffic Records.

I. Traffic Records System Information Components

MSF and MRF expressed general support for a Traffic Records System (TRS). MRF added that motorcycle records should be administered and collected uniformly with “as little bias as possible with regard to all safety equipment.” The MSF recommended adding another category to crash data components to specifically document the use of motorcycle helmets and whether helmets used are DOT-compliant.

The MSF recommendation to document the use of safety equipment, specifically motorcycle helmets, is not appropriate because the Guideline does not address crash data components at the data element level. Collecting information on safety equipment for motorcycles, including motorcycle helmet use, is addressed in the revised Model Minimum Uniform Crash Criteria (MMUCC). The MMUCC is jointly developed by States and Federal agencies and is intended to improve traffic safety both nationally and locally by providing a recommended set of uniform data elements for capturing information about motor vehicle crashes. The Third Edition MMUCC Guideline was published in 2008.

The proposed Guideline identified particular elements crash data should incorporate, including location characteristics (e.g., roadway type or specific intersections). Commenting that crash data should be linked to roadway data, AAA proposed that NHTSA replace location characteristics with “Location” (linkable to Roadway Data Component). The agency intended the specific terms proposed in the “Crash Data Component” section to identify general variables and/or attributes that one would expect to find in a crash database for the characteristics of the persons, locations, vehicles, etc. involved in a crash. Accordingly, the Guideline does not incorporate AAA's suggested change. The broader issue that the commenter raised—the State's ability to link crash data with roadway inventory data—is a cogent issue. The benefit for a State to have data that permits the integration of databases is supported and addressed more fully in Section IV, Data Integration.

The premise of linking the crash data to a roadway inventory constitutes a major safety effort for the Federal Highway Administration (FHWA). The FHWA is currently working to establish the Model Minimum Inventory of Roadway Elements (MMIRE). Once the MMIRE is established, it will provide a uniform inventory of roadway data elements and attributes for locations (e.g., intersections and roadway segments). This linkage, which will rely upon the precise location of crashes, will permit an analysis on the contribution of roadway factors to traffic crashes.

AAA additionally commented that the Guideline should reflect that project inventory for the Roadway Data Component should include initiation and completion dates as well as descriptions of projects and project locations. While NHTSA concurs that the commenter's suggested practice for documenting information regarding projects is valuable and should be followed by all agencies responsible for roadway maintenance/improvement, the agency believes that this level of detail in the Guideline extends beyond the intended scope and purpose of the Guideline.

MRF and MSF commented that VMT numbers are inaccurate with respect to motorcycles. MSF also commented that States should be required to report motorcycle VMT. NHTSA collects data on motor vehicle crashes, including those involving motorcycles; however, NHTSA does not collect data on VMT. VMT data are collected and published annually by FHWA as part of the Highway Performance Monitoring System (HPMS). The DOT recognizes the need for the best motorcycle travel data possible to support calculation of a more accurate and consistent measurement of motorcycle travel. State reporting of motorcycle VMT to the FHWA was optional prior to this year. Even for those States that reported motorcycle VMT, it was often only measured as a standard proportion of total VMT rather than being collected directly through surveys or roadside counters. FHWA had to then estimate VMT for States that did not report based on data from States that did report. Beginning in 2007, FHWA began requiring States to collect and report motorcycle VMT data. Initial data became available in 2008. Also, the Department is currently working with the States to improve and address any technical issues surrounding the collection of motorcycle exposure data. In October 2007, FHWA and NHTSA held a symposium on motorcycle travel to exchange State best practices in motorcycle VMT collection, explore new data sources and data collection technologies, and develop a long-term research and implementation roadmap.

II. Uses of a Traffic Records System

AAA expressed support for the proposed Guideline's language regarding reasonable public access to data and commented in favor of making data files available to traffic safety research organizations. NHTSA believes traffic safety research organizations are covered under the Guideline's language providing for data access for “the public or general non-government user.”

III. Traffic Records System Management

MSF suggested cross-referencing rider education training data with operator licensing records, particularly in States conditioning licensing upon safety training. The agency has addressed this recommendation in Guideline No. 5 Non-Commercial Driver Licensing.

F. Comments Regarding Guideline No. 17 Pupil Transportation

The State of Michigan Department of State Police and NSTA submitted comments on this Guideline. The State of Michigan's comments summarized the State's current laws relative to this Guideline, noting that the State currently has no pending legislation to conform to several provisions in the proposed Guideline. This Guideline remains unchanged in response to the State of Michigan's submission. NSTA conveyed overall support for the Guideline, particularly its language regarding prohibiting the operation of nonconforming school transportation vehicles. NSTA's remaining comments are addressed below.

I. Operations

NSTA commented that with respect to driver physical qualifications, school bus inspections and maintenance and driver daily vehicle inspection reports, the Guideline differentiates between operations subject to the Federal Motor Carrier Safety Regulations (FMCSRs) and those that are not. NSTA suggested that NHTSA apply the relevant provisions of the FMCSRs for all school bus operations. NHTSA agrees with the comment and modified this section accordingly as follows:

Under the Personnel heading, the Guideline removes the phrase “if the driver or the driver's employer is subject to those regulations” from the physical qualification standards statement.

Regarding school bus inspections, under the Vehicle Maintenance heading, the Guideline removes the references to FMCSR. The language now reads, “[r]egularly scheduled vehicle inspections should be conducted as specified in accordance with FMCSA regulations contained in 49 CFR Part 396.3” and “[s]chool bus drivers should perform daily inspections of their vehicles, including all safety equipment and submit a report of their findings daily as specified in 49 CFR 396.”

The guidelines published today also will appear on NHTSA's Web site in the Highway Safety Grant Management Manual in the near future. Guideline Nos. 4, 5, 7, 10, 12, and 17 are set forth below. The remaining guidelines are not addressed by today's action and remain unchanged.

Highway Safety Program Guideline No. 4

Driver Education

Each State, in cooperation with its political subdivisions and tribal governments, should develop and implement a comprehensive, culturally competent highway safety program, reflective of State demographics, to achieve a significant reduction in traffic crashes, fatalities and injuries on public roads. All programs should be data driven, and the highway safety program should include a driver education and training program designed to educate new drivers and provide remedial training for existing drivers. This guideline describes the components that the State driver education program should include and the minimum criteria that the program components should meet. Resources permitting, schools should also include traffic safety education for children and youth designed to engender knowledge of safe driving practices.

I. Program Management

Each State should have centralized program planning, implementation, and coordination to deliver comprehensive and uniform driver education that applies to both public and private programs. Evaluation should be used to revise existing programs, develop new programs, and determine progress and success. The State Highway Safety Office (SHSO) in collaboration and in cooperation with other State agencies involved in driver education, such as Transportation Departments, Motor Vehicle Departments, Licensing Departments, and Education Departments, should:

• Provide leadership, training, and technical assistance to public and private providers of driver education to ensure consistency and quality;

• Resources permitting, work with other relevant State agencies to identify staff resources to provide full-time oversight over driver education programs delivered within the State; and

• Evaluate the effectiveness of the State's driver education program.

II. Legislation, Regulation and Policy

Each State should enact and enforce laws and policies intended to reduce crashes caused by novice drivers. To enhance the effectiveness of driver education, States should:

• Enact Graduated Driver Licensing (GDL) laws that include three stages of licensure, and that place restrictions and sanctions on high-risk driving situations for novice drivers (i.e., nighttime driving restrictions, passenger restrictions, zero tolerance, portable electronic communication and entertainment devices restrictions, and required seat belt use);

• Ensure that the GDL restrictions and sanctions for GDL licensure are adapted for and applicable to motorcycle operators, and enforceable for motorcycle operators;

• Develop driver education standards and guidelines to which all driver education programs, whether public or private, must adhere to satisfy licensing requirements for novice drivers; and

• Ensure that completion of driver education programs will not reduce time required for novice drivers to proceed through a GDL system.

III. Enforcement Program

Components of a State driver education enforcement program should include:

• Visible and well-publicized law enforcement of the components of GDL and zero tolerance laws;

• Licensing sanctions for violations of these provisions;

• Evaluation of enforcement efforts to determine effectiveness;

• State agency oversight of driver education programs to ensure delivery of approved State curriculum; and

• Administrative or financial penalties for programs in noncompliance.

IV. Driver Education and Training Program

A driver education program should be available to novice drivers and all youths of licensing age and include the following criteria:

• The program is taught by instructors, public or private, certified by the State as qualified for these purposes; examples of such standards might include: minimum levels of education and continuing education, not being convicted of any felony or certain misdemeanor crimes, holding a valid driver license, and setting limits on numbers and types of driving violations.

• All vehicles used in public or commercial Behind the Wheel training have appropriate safety inspections and are equipped with, at a minimum, a safety brake accessible by the driver side passenger, a first aid kit, a fire extinguisher, an instructor rear view mirror and an eye check mirror for the instructor.

• It provides each student with practice driving and/or instruction in at least the following:

○ Basic driving techniques, including starting, stopping, turning, and basic interaction in controlled environments in light and moderate traffic;

○ Additional driving techniques, including balanced vehicle movement through steering, braking, and accelerating in a precise and timely manner;

○ Cognitive aspects of driving, including gap management, recognizing blockage and hazards, responding early and appropriately to hazards and potential hazards, signaling techniques, methods for speed management and effective visual searching, and decision-making and habit-development strategies;

○ Risk prevention techniques such as skid prevention;

○ Rules of the road and other State laws and local motor vehicle laws and ordinances;

○ Attitudinal awareness training that includes how attitudes can have an impact on driving behavior;

○ Peer pressure training including how vehicle operators and passengers can say no in unsafe peer-pressure situations and how to utilize leadership skills in managing the driver and the passengers in a vehicle;

○ Vehicle technology and the benefit of braking, traction, intelligent handling, and stability systems;

○ Critical vehicle systems and sub-systems requiring preventive maintenance;

○ Vehicle and highway features (including different vehicle and roadway conditions) that:

■ Aid the driver in avoiding crashes;

■ Protect the driver and passengers in crashes; and

■ Maximize the care of the injured.

○ Signs, signals, and highway markings and highway design features that require understanding for safe operation of motor vehicles;

○ Differences in characteristics of urban and rural driving including safe use of modern expressways;

○ Safe Driving Practices, including making good driver decisions; use of occupant restraints; not driving under the influence; and dealing with fatigue, distractions, and aggressive drivers; and

○ Sharing the roadway with other users, especially pedestrians, bicycles, scooters, and motorcycles, who are more physically vulnerable to injury or death in the event of a crash. This should include techniques to increase awareness of motorcycles and other road users.

Each State should also ensure:

• That research and development programs include adequate research, development, and procurement of practice driving facilities, simulators, online teaching resources, and other similar teaching aids for both school and other driver training use;

• There is a program that engages parents and/or guardians in the driver education and GDL programs;

• There is a program for adult driver training and retraining; and

• Commercial driving schools are licensed and instructors are certified in accordance with applicable State laws, regulations or other criteria.

V. Communication Program

States should develop and implement communication strategies directed at supporting policy and program elements. The SHSO, in collaboration and cooperation with driver education and training and highway safety partners, should consider a statewide communications plan and campaign that:

• Informs the public, especially parents, about State GDL laws;

• Identifies audiences at particular risk and develops appropriate messages;

• Provides culturally competent materials;

• Informs parents/guardians and young drivers about the role of supervised driving and the State's GDL law;

• Informs novice drivers about underage drinking and zero tolerance laws (in effect in all 50 States and the District of Columbia), such as including information in manuals for new drivers and including a question about the topic on the written test for a learner's permit;

• Informs the public on the role of parental monitoring/involvement; and

• Informs the public about State guidelines and regulation of driver education.

VI. Program Evaluation and Data

The SHSO, in collaboration and cooperation with the State agencies responsible for driver education and training, should develop a comprehensive evaluation program to measure progress toward established project goals and objectives and optimize the allocation of limited resources. The State should promote effective evaluation by:

• Supporting the analysis of police accident reports;

• Encouraging, supporting, and training localities in process, impact, and outcome evaluation of local programs;

• Evaluating the use of program resources and the effectiveness of existing countermeasures for the general public and high-risk populations; and

• Ensuring that evaluation results are used to identify problems, plan new programs, and improve existing programs.

Highway Safety Program Guideline No. 5

Non-Commercial Driver Licensing

Each State, in cooperation with its political subdivisions and tribal governments, should develop and implement a comprehensive, culturally competent highway safety program, reflective of State demographics, to achieve a significant reduction in traffic crashes, fatalities, and injuries on public roads. Each State should have a driver licensing program ensuring that every driver is adequately trained and tested, evaluated for physical and mental fitness, when appropriate, and possesses only one driver license and driver record.

I. Program Management

Each State should have a licensing agency that ensures only those qualified to operate motor vehicles obtain a valid State driver license applicable to vehicles they are authorized to operate. This agency should:

• Ensure that drivers are appropriately licensed for the vehicles they operate;

• Ensure that driver license applicants are appropriately screened for correct identity;

• Ensure that documents used to establish identity are appropriately analyzed;

• Take appropriate measures to ensure that applicants are not licensed in other States;

• Provide driver licenses that are tamper resistant to prevent fraudulent use of the document;

• Provide driver licenses that clearly indicate if the driver is under 21 years of age; and

• Ensure that license issuing offices maintain industry standards for security to prevent license issuance to ineligible applicants.

II. Legislation, Regulation, and Policy

A model driver licensing program should provide, at a minimum, that each driver:

• Hold only one license, which identifies the type(s) of vehicle(s) he or she is authorized to operate;

• Submits acceptable proof of identity in applying for an original, renewal, or re-application of a driver's license;

• Passes an examination demonstrating:

○ Ability to operate the class(es) of vehicles(s) for which he or she is licensed;

○ Ability to read and comprehend traffic signs and symbols;

○ Knowledge of laws relating to traffic (rules of the road) safe driving procedures, vehicle and highway safety features, emergency situations that arise in the operation of a vehicle, and other driver responsibilities; and

○ Visual acuity, which must meet or exceed State guidelines; and

• Renews the license, in-person, periodically with skill testing and medical examinations, as appropriate.

A model Graduated Driver Licensing (GDL) law should require each driver under age 18 to participate in a GDL System, a three-stage system that incrementally adds privileges for novice drivers as they gain experience driving. The three-stage process should include the following progressive steps:

○ First, the young, novice driver receives a learner's permit that:

• Starts no younger than 16 years of age;

• Requires completion of a minimum of 6 months driving without an at-fault crash or traffic violation;

• Requires supervised driving at all times in which the supervising licensed driver is age 21 or older; and

• Prohibits the use of portable electronic communication or entertainment devices while driving.

○ Next, the young driver receives an intermediate, or provisional, permit that:

• Requires completion of a minimum of 6 months driving without an at-fault crash or traffic violation;

• Imposes nighttime driving restrictions;

• Imposes teenage passenger restrictions;

• Prohibits the use of portable electronic communication or entertainment devices while driving; and

• Mandates adherence to State seat belt use requirements.

○ The third and final stage is full licensure with:

• Passenger, nighttime and portable electronic devices restrictions until age 18; and

• Maximum blood alcohol limits of .02 until age 21.

○ The driver should receive driver education that meets standards set by the State that are related to the State driving manual and driving test and, to the greatest degree possible, increases the safety performance of new drivers. (Under no circumstance should driver education reduce the time required to pass through the GDL system.)

III. Driver Fitness

Each State should have:

• A system that provides medical evaluation of people who the driver licensing agency has reason to believe have mental or physical conditions that might impair their driving abilities;

• A procedure that will keep the driver license agency informed of all licensed drivers who are currently applying for or receiving any type of tax, welfare, or other benefits or exemptions for the blind or visually impaired beyond established State vision requirements;

• A medical advisory board or equivalent allied health professional unit composed of qualified personnel to advise the driver license agency on medical criteria, including alcohol use and vision guidelines; and

• Protection from civil liability for individuals who report, in good faith, potentially at-risk drivers to the licensing authority.

IV. Motorcycle Operator Licensing

States should require every person who operates a motorcycle on public roadways to pass an examination designed especially for motorcycle operation and to hold a license endorsement specifically authorizing motorcycle operation. Each State should have a motorcycle licensing system that requires:

• A motorcycle operator's manual that contains essential information on reducing the risks associated with riding a motorcycle;

• A motorcycle license examination, including knowledge and skill tests, and State licensing medical criteria;

• License examiner training specific to testing of motorcyclists;

• Motorcycle license endorsement;

• Cross referencing of motorcycle registrations with motorcycle licenses to identify motorcycle owners who do not have the proper endorsement;

• Motorcycle license renewal requirements;

• Learner's permits issued for a period of at least 90 days and the establishment of limits on the number and frequency of learner's permits issued per applicant to encourage each motorcyclist to get full endorsement; and

• Penalties for violation of motorcycle licensing requirements.

V. Driver Records, Data, and Evaluation

Each State should maintain a driver control record on each licensed driver that includes identification information, principle residence, and driver history. (See Highway Safety Program Guideline No. 10—Traffic Records.) In addition to the historical aspect, the traffic records system should be conducive to:

• Timely, accurate, and complete entry of data into the system;

• Ease of accessibility to the system to give timely, accurate, and complete information on drivers for users of the system. Functional users may include courts, administrative/legal personnel, motor vehicle administration, law enforcement, research and development, and private citizens;

• Real-time availability of data to provide DMV personnel and other system users with a rapid-response system for the information requested on standard and priority requests for eligibility of an applicant for issuance of a driver license;

• Ad-hoc reporting for statistical and other research purposes;

• Real-time identification of problem drivers for enforcement or other operational countermeasures; and

• Medical restriction or suspension/revocation information.

Each license should be issued for a specific term, and should be renewed to remain valid. At time of issuance or renewal each driver's record should be checked.

Motorcycle registration and licensing records should be linked to ensure that riders are properly licensed and trained.

There should be a driver improvement program to identify problem drivers for record review and other appropriate actions designed to reduce the frequency of their involvement in traffic crashes or violations.

The non-commercial driver licensing program should be periodically evaluated by the State. The evaluation should, among other issues, attempt to ascertain the extent to which driving without a license occurs.

VI. Communication Program

States should develop and implement communication strategies directed at supporting policy and program elements. In collaboration with motor vehicle and other State agencies, the SHSO should consider a statewide communications plan and campaign that:

• Informs the public about State licensing requirements;

• Identifies audiences at particular risk and develops appropriate messages;

• Provides information about driver fitness requirements and mental or physical conditions that might impair driving abilities;

• Informs motorcycle registrants of the need to obtain an appropriate motorcycle endorsement or license;

• Provides culturally competent materials;

• Informs parents/guardians about the role of supervised driving and the State's GDL law; and

• Informs novice drivers about underage drinking and zero tolerance laws (in effect in all 50 States and the District of Columbia), such as including information in manuals for new drivers and including a question about the topic on the written test for a learner's permit.

Highway Safety Program Guideline No. 7

Judicial and Court Services

Each State, in cooperation with its political subdivisions and tribal governments, should develop and implement a comprehensive, culturally competent highway safety program, reflective of State demographics, to achieve a significant reduction in traffic crashes, fatalities, and injuries on public roads. Each State should have a comprehensive judicial services program as part of its overall highway safety program. Such judicial services programs should support courts in the competent and effective adjudication of both administrative and statutory law cases. Judicial services programs should, consistent with ethical and professional requirements, promote judicial outreach activity to reduce traffic crashes and resultant fatalities and injuries. This document describes the four key components of State judicial services programs and the specific activities needed to implement those components. Additional information on judicial outreach is addressed in Highway Safety Guideline No. 8, Impaired Driving.

I. Program Management

Program planning, implementation, and coordination are essential for achieving and sustaining State traffic enforcement and adjudication functions. The State Highway Safety Office (SHSO), in conjunction with State and local court administrators, chief judges, and judicial educators should ensure that State traffic safety judicial education programs are well planned and coordinated. State SHSOs should provide leadership, training and technical assistance to:

• Implement and integrate regular traffic law and safety-related judicial education in judicial education programs for all judges;

• Generate broad-based support for traffic safety programs by informing all stakeholders, including court administrators and the judges they serve, of comprehensive highway safety plans for traffic enforcement;

• Coordinate traffic safety programs to include Commercial Motor Vehicle (CMV) safety activities such as the Motor Carrier Safety Assistance Program;

• Promote the dissemination of NHTSA-supported judicial traffic safety and education courses through coordination with State judicial educators and nationally based institutions such as the National Center for State Courts, National Council of Juvenile and Family Court Judges, and the National Judicial College; and

• Support the development and ethical implementation of judicial education programs for State, local, administrative, and tribal courts that will accomplish the following objectives:

• Utilize enabling legislation and regulations to provide the public with effective and efficient court services;

• Provide the impetus for judges to be thoroughly educated on all facets of motor vehicle law;

• Develop cooperative relationships with other government branches, agencies, and entities, as well as community organizations and traffic safety stakeholders; and

• Establish qualitative and quantitative performance measures by which the delivery of services can be evaluated.

II. Resource Management

The SHSO should coordinate with the courts to develop plans that identify the resources necessary to effectively provide efficient traffic law-related services throughout the criminal justice system. The plans should include specific components concerning the allocation of funding, personnel, and facilities and:

• Periodic assessment of traffic law-related service demands and the resources needed to serve the needs of the public;

• Development of traffic law-related court service plans that address budgetary requirements, staff allocation, and facilities requirements; and

• Employment of efficient accounting and data processing systems to facilitate prompt and accurate generation, retrieval, and sharing of information and records.

III. Training and Education

Training and education are essential to support and maintain the delivery of traffic law-related services by the judicial branch of government. To be effective adjudicators, and serve the needs of the public, judges must receive regular education and training of the highest caliber. Judicial education and training should be promoted and, where appropriate, presented by the SHSO or other training entities with experienced faculties in the area of traffic safety, including law and procedure. Judicial education and training should be:

• Adequately funded and where possible compulsory as a requirement to maintaining service in office;

• Provided by State or nationally based judicial education and training entities with experienced faculties in the areas of traffic-related law and procedure;

• Inclusive of education components consistent with models developed by the American Bar Association, for example the Code of Judicial Ethics and the Rules of Professional Conduct;

• Inclusive of case management components so as to foster productivity and the prompt and efficient disposition of cases;

• Specialized as to curriculum so as to address the needs of both statutory and administrative judges as well as hearing officers; and

• Assessed regularly so as to insure that education components address specialized traffic enforcement skills, techniques, or programs such as DWI/Drug Courts.

IV. Data and Evaluation

The SHSO, in conjunction with court administrators, should develop a comprehensive evaluation program to measure progress toward established project goals and objectives. Utilizing comprehensive evaluation programs, the SHSO should effectively plan and implement statewide, county, local, and tribal traffic safety programs. Such programs should have as objectives the optimization of limited resource allocation and should measure the impact of traffic enforcement on court resources. Data that are collected should include case disposition summaries and reports, and other relevant workload information. Court administrators should:

• Include evaluation components in initial program planning so as to ensure that data will be available for evaluation;

• Ensure that adequate resources and personnel are allocated to program planning and data collection;

• Regularly report results of program evaluations to project and program managers, legislative decision-makers, and to the public;

• Utilize results to guide future activities and to assess in justifying resources to governing bodies;

• Conduct surveys to assist in determining court and program effectiveness, including surveys that measure public knowledge and attitudes about court programs;

• Evaluate the effectiveness of services provided in support of priority safety programs; and

• Maintain and report court generated data to appropriate repositories through the use of effective records programs that:

◦ Provide records rapidly and accurately;

◦ Provide routine compilations of data for management use in the decision-making process;

◦ Provide data for operational planning and execution;

◦ Interface with a variety of data systems, including statewide traffic safety records systems that are accessible by other State and local governmental entities, agencies, and courts;

◦ Provide for the evidentiary integrity of information so as to insure its admissibility in subsequent court and administrative hearing proceedings; and

◦ Work with court administrators to use the traffic court functional standards that are available through the National Center for State Courts.

Highway Safety Program Guideline No. 10

Traffic Records

Each State, in cooperation with its political subdivisions and tribal governments, should implement a traffic records system (TRS) to support highway and traffic safety decision-making and long-range transportation planning. A complete TRS is necessary for identifying the locations and causes of crashes, for planning and implementing countermeasures, for operational management and control, and for evaluating highway safety programs and improvements. This guideline describes the components that a State TRS program should include and the criteria that the program components should meet.

I. Traffic Records System Information Components

A TRS has been defined as a virtual set of independent real systems (e.g., driver conviction records, crash records, roadway data, etc.), which collectively form the information base for the management of the highway and traffic safety activities of a State. An updated concept of a TRS encourages States to take a global approach and work toward compiling data into a unified, accessible resource. Sharing and integrating data makes such a system possible, without necessarily duplicating costly and time-consuming tasks such as data entry. Achieving integrated access to data without bringing all the data into a single database is a goal of the TRS. The traffic records system should consist of the following major components:

A. The Crash Data Component documents the time, location, environment, and characteristics (e.g., sequence of events, rollover, etc.) of a crash. It contains basic information about every reportable (as defined by State statute) motor vehicle crash on any public roadway in the State. Through links to other TRS components, the Crash Data Component identifies the roadways, vehicles, and people (e.g., drivers, occupants, pedestrians) involved in the crash. These data help to document the consequences of the crash (e.g., fatalities, injuries, property damage, and violations charged), support the analysis of crashes in general, and support the analysis of crashes within specific categories defined by:

• Person characteristics (e.g., age or gender);

• Location characteristics (e.g., roadway type or specific intersections);

• Vehicle characteristics (e.g., condition and legal status); and

• The interaction of various components (e.g., time of day, day of week, weather, driver actions, pedestrian actions, etc.).

B. The Roadway Data Component includes roadway location, identification, and classification, as well as a description of a road's total physical characteristics and usage. These attributes are tied to a location reference system. Linked safety and roadway information are valuable components that support a State's construction and maintenance program development. This roadway information should be available for all public roadways, including local roads.

The State Department of Transportation (State DOT) typically has custodial responsibility for the Roadway Data Component. This component includes various enterprise-related files such as:

• Pavement

• Bridges

• Intersections

• Roadside appurtenances

• Traffic control devices

• Guard rails

• Barriers

Traffic

• VMT (vehicle miles traveled)

• Travel by vehicle type

Other

• GIS (Geographic Information System)

• LRS (Location Reference System)

• Project inventory

C. The Driver Data Component includes information about the State's population of licensed drivers as well as information about convicted traffic violators who are not licensed in that State. Information about persons licensed by the State should include: personal identification, driver license number, type of license, license status, driver restrictions, convictions for traffic violations in the State and the history of convictions for critical violations in prior States, crash history (whether or not cited for a violation), driver improvement or control actions, and driver education data.

Custodial responsibility for the Driver Data Component usually resides in a State Department or Division of Motor Vehicles (DMV). Some commercial vehicle operator-related functions may be handled separately from the primary custodial responsibility for driver data. The structure of driver databases typically is oriented to individual “customers.”

D. The Vehicle Data Component includes information on the identification and ownership of vehicles registered in the State. Data should be available regarding vehicle make, model, year of manufacture, body type, and vehicle history (including odometer readings) in order to produce the information needed to support analysis of vehicle-related factors that may contribute to a State's crash experience. Such analyses would be necessarily restricted to crashes involving in-State registered vehicles only.

Custodial responsibility for the vehicle data usually resides in a State Department or Division of Motor Vehicles. Some commercial vehicle-related functions may be handled separately from the primary custodial responsibility for all other vehicle data. The structure of vehicle databases typically is oriented to individual “customers.”

E. The Citation/Adjudication Data Component, which identifies citation/arrest and adjudication activity of the State, includes information that tracks a citation from the time of its distribution to a law enforcement officer, through its issuance to an offender, its disposition, and the posting of conviction in the driver history database.

Case management systems, law enforcement records systems, and DMV driver history systems should share information to support:

• Citation tracking;

• Case tracking;

• Disposition reporting; and

• Specialized tracking systems for specific types of violators (e.g., DUI tracking systems).

Information should be available to identify the type of violation, location, date and time, the enforcement agency, court of jurisdiction, and final disposition. Similar information for warnings and other motor vehicle incidents that would reflect enforcement activity are also useful for highway safety purposes and should be available at the local level.

The information should be used for determining the level of enforcement activity in the State, for accounting and controlling of citation forms, and for detailed monitoring of court activity regarding the disposition of traffic cases.

Custodial responsibility for the multiple systems that make up the Citation/Adjudication Data Component should be shared among local and State agencies, with law enforcement, courts, and the State Division or DMV sharing responsibility for some files (e.g., portions of the citation tracking system). State-level agencies should have responsibility for managing the law enforcement information network (e.g., a criminal justice information agency), for coordinating and promoting court case management technology (e.g., an administrative arm of the State Supreme Court), and for assuring that convictions are forwarded to the DMV and actually posted to the drivers' histories (e.g., the court records custodian and the DMV).

F. The Statewide Injury Surveillance System (SWISS) Data Component typically incorporates pre-hospital (EMS), trauma, emergency department (ED), hospital in-patient/discharge, rehabilitation and morbidity databases to track injury causes, magnitude, costs, and outcomes. Often, these systems rely upon other components of the TRS to provide information on injury mechanisms or events (e.g., traffic crash reports). The custodial responsibility for various files within the SWISS typically is distributed among several agencies and/or offices within a State Department of Health.

This system should allow the documentation of information that tracks magnitude, severity, and types of injuries sustained by persons in motor-vehicle-related crashes. Although traffic crashes cause only a portion of the injuries within any population, they often represent one of the more significant causes of injuries in terms of frequency and cost to the community. The SWISS should support integration of the injury data with police-reported traffic crashes and make this information available for analysis to support research, public policy, and decision making.

II. Traffic Records System Information Quality

A State's traffic records information should be maintained in a form that is of high quality and readily accessible to users throughout the State. Performance-based measures should be quantifiable and should be established for each attribute of each component (e.g., the amount of elapsed time from initial data collection until entry in the traffic records system, the level of accuracy and completeness the data must meet in order to pass edit and validation checks during data entry, the level of adoption of various standards and guidelines, etc.). The definition of each performance-based measure and its relative significance may vary for each of the State's TRS data components.

The quality of a State's traffic records information is determined by the following attributes:

• Timeliness—information should be available within a timeframe to be meaningful for effective analysis of a State's highway safety programs, and for efficient conduct of each custodial agency's business and mission;

• Consistency—the information should be consistent with nationally accepted and published guidelines and standards (e.g., the Model Minimum Uniform Crash Criteria, the National EMS Information System) and data should be collected on uniform forms that are prescribed by the State for use by all jurisdictions. The ANSI D16.1-2007 is the standard for statistical classification of motor vehicle traffic crashes and is the primary reference for classifying motor vehicle crashes. This standard promotes consistency of motor vehicle traffic accident statistics. To view the standard, go to: http://www.atsip.org/index.php?/atsip/d-16.

• Completeness—the information should be complete in terms of all the people, events, things, or places represented by the records in the various components, and it should be complete in terms of all the variables required to be collected on those people, events, things, or places;

• Accuracy—the information should be accurate as determined by quality control methods to ensure accurate information is contained on individual reports (e.g., validity and consistency checks in the data capture and data entry processes and feedback to jurisdictions submitting inaccurate reports);

• Accessibility—the information should be readily and easily accessible to the principal users of the traffic records system components, including both direct access (automated) and the ability to obtain periodic (standard) reports as well as reports and data by special request; and

• Data Integration—information in any traffic records system component should be capable of being linked with any other component through the use of common data variables where possible and permitted by law.

III. Uses of a Traffic Records System

The purpose of a State's traffic records system is to establish a base of useful information and data. This includes operational personnel, program managers, program analysts, researchers, policy makers, and the public. To be of optimal value, the system should provide for the efficient flow of data to support a broad range of traffic safety and other activities, in particular the following:

• Problem Identification

Problem identification is the process of determining the locations and causes of crashes and their outcomes and of selecting those sites and issues that represent the best opportunity for highway safety improvements;

• Research and Program Development

The traffic records system should provide information to identify safety problems, trends, and baseline measures essential for data-driven planning decisions;

• Policy Development

The traffic records system should provide information to permit informed decisions in setting highway safety policy, including State Highway Safety Plans.

• Analytic Resources Access

Data users, and decision makers in particular, should have access to resources including skilled analytic personnel and easy to use software tools to support their needs. These tools should be specifically designed to meet needs such as addressing legislative issues (barriers as well as new initiatives), program and countermeasure development, management, and evaluation, as well as meeting all reporting requirements.

• Public Access to Data

The TRS should be designed to give the public or general non-government user reasonable access to data files, analytic results, and resources, but still meet State and Federal privacy and security standards.

• Data Use and Improvement

The TRS should be viewed as more than a collection of data repositories, and as a set of processes, methods, and component systems. Knowledge of how these data are collected and managed, along with where the bottlenecks and quality problems arise, is critical to users understanding proper ways to apply the data.

IV. Traffic Records System Management

The development and management of traffic safety programs is a systematic process with the goal of reducing the number and severity of traffic crashes. This data-driven process ensures that all opportunities to improve highway safety are identified and considered for implementation. This process can be achieved through the following initiatives:

Traffic Records Coordinating Committee (TRCC)

The State should form a TRCC whose membership includes, among others, managers, collectors, and users of traffic records and public health and injury control data systems. The TRCC should have the authority to approve the State's Strategic Plan for Traffic Records Improvements. The TRCC should also:

• Represent all stakeholders; each stakeholder must have support from the top management of the representative agency;

• Have the authority to review any of the State's highway safety data and traffic records systems and to review any proposed changes to such systems prior to implementation;

• Provide a forum for the discussion of highway safety data and traffic records issues and report on any such issues to the agencies and organizations in the State that create, maintain, and use highway safety data and traffic records;

• Represent the interests of the agencies and organizations within the traffic records system to outside organizations; and

• Review and evaluate new technologies to keep the highway safety data and traffic records system up-to-date.

Strategic Planning

The TRS should support the traffic safety strategic planning process that helps State and local data owners identify and support their overall traffic safety program needs and addresses the changing needs for information over time.

Data Integration

States should integrate data and expand their linkage opportunities to track traffic safety events among data files. Data integration should be addressed through the following:

• Create and maintain a system inventory;

• Support centralized access to linked data;

• Meet Federal reporting requirements such as the Fatality Analysis Reporting System (FARS), Motor Carrier Management Information System (MCMIS/safetynet), the Highway Performance Monitoring System (HPMS) and others;

• Support electronic data sharing; and

• Adhere to State and Federal privacy and security standards.

Highway Safety Program Guideline No. 12

Prosecutor Training

Each State, in cooperation with its political subdivisions and tribal governments, should develop and implement a comprehensive, culturally competent highway safety program, reflective of State demographics, to achieve a significant reduction in traffic crashes, fatalities, and injuries on public roads. All programs should include a comprehensive prosecutorial training program that supports prosecutors in the prosecution of traffic-related cases. Prosecutorial training programs should be consistent with ethical and professional requirements in addition to addressing training and technical assistance needs. These programs should encourage prosecutors to make the prosecution of traffic-related cases a high priority. This guideline describes the key components that a State program should include and the minimum criteria that the program components should meet. Additional information on prosecutor outreach is addressed in Highway Safety Guideline No. 8, Impaired Driving.

I. Program Management

Program planning, implementation, and coordination are essential for achieving and sustaining high-quality State traffic enforcement and prosecution functions. The State Highway Safety Office (SHSO), in conjunction with State prosecutor associations, Prosecutor Coordinators, and Traffic Safety Resource Prosecutors (TSRP) should ensure that State traffic safety programs are comprehensive, well planned, and coordinated. State SHSOs should provide leadership, training, and technical assistance to their State's prosecutors. In doing so, the SHSOs should:

• Communicate and coordinate with State prosecutor coordinators and TSRPs regarding comprehensive highway safety plans for traffic enforcement so they can generate broad-based prosecutorial support for traffic safety programs;

• Assist State prosecutor coordinators and TSRPs in implementing regular traffic law and safety-related prosecutor training programs;

• Provide support and assistance to State prosecutor coordinators and TSRPs for training and technical assistance that prosecutors need to effectively prosecute impaired driving and other traffic-related cases; and

• Evaluate the delivery of training and technical assistance through established qualitative and quantitative measures.

II. Resource Management

The SHSO should encourage prosecutors to develop plans that identify those resources necessary to provide efficient traffic law-related services that include:

• Periodic assessment of traffic law-related service demands and the resources needed to serve the needs of prosecution and the public.

• Development of traffic law-related prosecutor resource management plans that address budgetary requirements, staff allocation, and facilities requirements.

• Employment of efficient accounting and data processing systems to facilitate prompt and accurate generation, retrieval, and sharing of information and records.

III. Training and Technical Assistance

Training and technical assistance are essential to support the delivery of high-quality traffic law-related prosecution. To effectively serve the needs of law enforcement, victims, and the public, prosecutors must receive regular, consistent training and have available to them individuals who can provide technical assistance in a competent and efficient manner. To this end, the SHSO should:

• Encourage the implementation of the TSRP program;

• Provide Prosecutor Coordinators and TSRPs with advanced education and training in the area of traffic-related law and procedure so as to enhance delivery of training and technical assistance to local prosecutors, law enforcement officers, advocacy groups, and other traffic safety professionals;

• Assist and support prosecutor coordinators in providing traffic law and safety-related training programs to the State's prosecutors;

• Include development and delivery of specialized curriculum to address the needs of both experienced and inexperienced prosecutors handling complex impaired-driving and other traffic prosecutions;

• Encourage consistent training and technical assistance through the prosecutor coordinators to address high turnover rates in prosecutor offices; and

• Include case management components to foster prompt and effective prosecution of traffic cases.

IV. Data and Evaluation

The SHSO, in conjunction with the prosecutor coordinator and the TSRP, should develop a comprehensive evaluation program to measure progress toward established project goals and objectives. Using comprehensive evaluation strategies, the SHSO should effectively plan and implement statewide, county, and local traffic safety training programs. Collected data should include training programs attended, technical assistance requested and received, and other workload information. The evaluation results should be used to maximize limited resources and measure the impact of such training and assistance on prosecutorial resources and the ability to effectively prosecute traffic cases. The SHSO should make sure that Prosecutor Coordinators or TSRPs:

• Include evaluation components in initial program planning to ensure that data will be available for analysis;

• Ensure that adequate resources and personnel are allocated to program planning and data collection;

• Regularly report results of program evaluations to project managers, program managers, and legislative decision-makers;

• Utilize results to guide future activities and assess resource allocation; and

• Evaluate the effectiveness of services provided in support of priority traffic safety programs.

Highway Safety Program Guideline No. 17

Pupil Transportation Safety

Each State, in cooperation with its political subdivisions and tribal governments, should establish a State highway safety program for pupil transportation safety including administration; the identification, operation, and maintenance of buses used for carrying students; and the training of passengers, pedestrians, and bicycle riders. The purpose of this guideline is to provide strategies for minimizing, to the greatest extent possible, the danger of death or injury to school children while they are traveling to and from school and school-related events.

I. Program Management

There should be a single State agency with primary administrative responsibility for pupil transportation, that employs at least one full-time professional to carry out these responsibilities. The responsible State agency should develop an operating system for collecting and reporting information needed to improve the safety of operating school buses and school-chartered buses. Each State should establish procedures to meet the following recommendations for identification and equipment of school buses. All school buses should:

• Be identified with the words “School Bus” printed in letters not less than eight inches high, located between the warning signal lamps as high as possible without impairing visibility of the lettering from both front and rear, and have no other lettering on the front or rear of the vehicle, except as required by Federal Motor Vehicle Safety Standards (FMVSS), 49 CFR Part 571;

• Be painted National School Bus Glossy Yellow, in accordance with the colorimetric specification of National Institute of Standards and Technology (NIST) Federal Standard No. 595a, Color 13432; except that the hood should be either that color or lusterless black, matching NIST Federal Standard No. 595a, Color 37038.

• Have bumpers of glossy black, matching NIST Federal Standard No. 595a, Color 17038, unless, for increased visibility, they are covered with a reflective material;

• Comply with all FMVSS applicable to school buses at the time of their manufacture;

• Be equipped with safety equipment for use in an emergency, including a charged fire extinguisher that is properly mounted near the driver's seat, with signs indicating the location of such equipment;

• Be equipped with device(s) demonstrated to enhance the safe operation of school vehicles, such as a stop signal arm;

• Be equipped with a system of signal lamps that conforms to the school bus requirements of FMVSS No. 108, 49 CFR 571.108; and

• Have a system of mirrors that conforms to the school bus requirements of FMVSS No. 111, 49 CFR 571.111.

• School-chartered buses should comply with all applicable Federal Motor Carrier Safety Regulations (FMCSR) and FMVSS.

Any school bus meeting the recommendations above that is permanently converted for uses other than transporting children to and from school should be painted a color other than National School Bus Glossy Yellow, and should have the stop arms and school bus signal lamps removed.

School buses, while being operated on a public highway and transporting primarily passengers other than school children, should have the words “School Bus” covered, removed, or otherwise concealed, and the stop arm and signal lamps should not be operated.

II. Operations

Each State should establish procedures to meet the following recommendations for operating school buses and school-chartered buses:

• Personnel

○ Each State should develop a plan for selecting, training, and supervising people whose primary duties involve transporting school children in order to ensure that such persons will attain a high degree of competence in, and knowledge of, their duties;

○ Every person who drives a school bus or school-chartered bus occupied by school children should, at a minimum:

• Have a valid State driver's license to operate such a vehicle. All drivers who operate a vehicle designed to transport 16 or more persons (including the driver) are required by the Federal Motor Carrier Safety Administration's (FMCSA) Commercial Driver's License Standards (49 CFR Part 383) to have a valid commercial driver's license;

• Meet all physical, mental, moral, and other requirements established by the State agency having primary responsibility for pupil transportation, including requirements related to drug and/or alcohol misuse or abuse; and

• Meet the physical qualification standards for drivers under the FMCSR of the FMCSA, 49 CFR Part 391.

• Vehicles

○ Each State should enact legislation that provides for uniform procedures regarding school buses stopping on public highways for loading and discharge of children. Public information campaigns should be conducted on a regular basis to ensure that the driving public fully understands the implications of school bus warning signals and requirements to stop for school buses that are loading or discharging school children. Schools should work with local law enforcement agencies to enforce laws against passing a stopped school bus that is loading or unloading students.

○ Each State should establish policies to ensure that school districts are aware of the Federal statutory provision 49 U.S.C. Section 30112(a), as amended by Section 10309(b) of SAFETEA-LU (Pub. L. 109-59), prohibiting the purchase by schools and school systems of new non-conforming vehicles for school transportation purposes, and prohibit operation of any school bus or other vehicle used for school transportation purposes unless it meets the FMVSSs for school buses.

○ Each State should minimize highway use hazards to school bus and school-chartered bus occupants, other highway users, pedestrians, bicycle riders and property. Efforts to minimize such hazards should include, but not be limited to:

• Planning safe routes and annually reviewing routes for safety hazards;

• Planning routes to ensure the most effective use of school buses and school-chartered buses to ensure that passengers are not standing while these vehicles are in operation;

• Providing loading and unloading zones off the main traveled part of highways, whenever it is practical to do so;

• Establishing restricted loading and unloading areas for school buses and school-chartered buses at or near schools;

• Ensuring that school bus operators, when stopping on a highway to take on or discharge children, adhere to State regulations for loading and discharging including the use of signal lamps;

• Replacing school buses manufactured before April 1, 1977, with buses that meet the current FMVSSs for school buses, and not chartering any pre-1977 school buses; and

• Prohibiting public or private schools from purchasing school buses built prior to April 1, 1977 for school transportation or school-related events.

○ Use of amber signal lamps to indicate that a school bus is preparing to stop to load or unload children is at the option of the State. Use of red warning signal lamps as specified in this guideline for any purpose or at any time other than when the school bus is stopped to load or discharge passengers should be prohibited.

○ When school buses are equipped with stop arms, such devices should be operated only in conjunction with red warning signal lamps, when vehicles are stopped.

• Seating

○ Children are protected in large school buses by compartmentalization, a passive occupant protection system. This provides a protective envelope consisting of strong, closely-spaced seats that have energy-absorbing padded seat backs that help to distribute and reduce crash forces. Compartmentalization is most effective when occupants are fully seated within the bus seat. Seating should be provided that will allow each occupant to sit on a school bus seat without any part of his or her body extending into the aisle.

○ There should be no auxiliary seating accommodations such as temporary or folding jump seats in school buses.

○ Standing while school buses and school-chartered buses are in motion should not be permitted. Routing and seating plans should be coordinated to eliminate passengers standing when a school bus or school-chartered bus is in motion.

○ Drivers of school buses and school-chartered buses should be required to wear occupant restraints whenever the vehicle is in motion.

○ Passengers in school buses and school-chartered buses with a gross vehicle weight rating (GVWR) of 10,000 pounds or less should be required to wear occupant restraints (where provided) whenever the vehicle is in motion. Occupant restraints should comply with the requirements of FMVSS Nos. 208, 209 and 210, as they apply to multipurpose vehicles.

○ When transporting preschool age children in a school bus;

• Each child should be properly secured in a Child Safety Restraint System, suitable for the child's weight and age, that meets applicable FMVSSs; and

• The Child Safety Restraint System should be properly secured to the school bus seat, using anchorages that meet FMVSSs.

• Emergency exit access

○ Baggage and other items transported in the passenger compartment should be stored and secured so that the aisles are kept clear and the door(s) and emergency exit(s) remain unobstructed at all times.

○ When school buses are equipped with interior luggage racks, the racks should be capable of retaining their contents in a crash or sudden driving maneuver.

• Vehicle maintenance. Each State should establish procedures to meet the following recommendations for maintaining buses used to carry school children:

○ School buses should be maintained in safe operating condition through a systematic preventive maintenance program;

○ Regularly scheduled vehicle inspections should be conducted as specified in accordance with FMCSA regulations contained in 49 CFR Part 396.3; and

○ School bus drivers should perform daily inspections of their vehicles, including all safety equipment and submit a report of their findings daily as specified in 49 CFR 396.11.

III. Other Elements of Pupil Transportation Safety

• At least once during each school semester, each pupil transported from home to school in a school bus should be instructed in safe riding practices, proper loading and unloading techniques, proper street crossing to and from school bus stops and should participate in supervised and timed emergency evacuation drills. Prior to each departure, each pupil transported on an activity or field trip in a school bus or school-chartered bus should be instructed in safe riding practices and the location and operation of emergency exits.

• Parents and school officials should work together to identify and select safe pedestrian and bicycle routes for the use of school children. (See Guideline No. 14.)

• All school children should be instructed in safe transportation practices for walking to and from school. For those children who routinely walk to school, training should include pre-selected routes and the importance of adhering to those routes.

• Children riding bicycles to and from school should receive bicycle safety education, be required to wear bicycle safety helmets, and not deviate from pre-selected routes.

• Local school officials and law enforcement personnel should work together to establish crossing guard programs.

• Local school officials should investigate programs that incorporate the practice of escorting students across streets and highways when they leave school buses. These programs may include the use of school safety patrols or adult monitors.

• Local school officials should establish passenger vehicle loading and unloading points at schools that are separate from the school bus loading zones.

• Before chartering any vehicle or motor coach for school activity purposes, schools should check the safety record of charter bus companies through the FMCSA Safety and Fitness Electronic Records System. Schools should also consider using a multi-function school activity bus in place of charter buses where feasible. A multi-function school activity bus is not required to be equipped with traffic control devices (i.e., flashing lights and stop arm). These buses are not intended for the roadside picking up and dropping off of children during service between home and school. They are intended for use by schools and other institutions that need transportation services for school activity trips or for other coordinated transportation activities.

IV. Program Evaluation

The pupil transportation safety program should be evaluated at least annually by the State agency having primary administrative responsibility for pupil transportation.

V. Definitions

• A “bus” is a motor vehicle designed for carrying more than 10 persons (including the driver).

• A “school bus” is a “bus” that is used for purposes that include carrying students to and from school or related events on a regular basis, but does not include a transit bus or a school-chartered bus.

• A “school-chartered bus” is a bus that is operated under a short-term contract with State or school authorities who have acquired the exclusive use of the vehicle at a fixed charge to provide transportation for a group of students to a special school-related event.

• A “multi-function school activity bus” is a school bus whose purposes do not include transporting student to and from home or school bus stops.

• “Federal Motor Carrier Safety Regulations (FMCSR)” are the regulations of the Federal Motor Carrier Safety Administration (FMCSA) for commercial motor vehicles in interstate commerce, including buses with a gross vehicle weight rating (GVWR) or gross vehicle weight greater than 10,000 pounds; designed or used to transport more than 8 passengers (including the driver) for compensation; or designed or used to transport more than 15 passengers (including the driver), and not used to transport passengers for compensation. (The FMCSR are set forth in 49 CFR Parts 390-399.)

• A “child safety restraint system” is any device (except a passenger system lap seat belt or lap/shoulder seat belt), designed for use in a motor vehicle to restrain, seat, or position a child who weighs less than 65 pounds.

Ronald L. Medford,
Acting Deputy Administrator.

[FR Doc. E9-7241 Filed 3-31-09; 8:45 am]

BILLING CODE 4910-59-P